DEPARTMENT OF THE INTERIOR

Bureau of Land Management

[CACA 049397, LLCAD06000.L51010000.ER0000.LVRWB09B2920.15X]

Notice of Intent To Prepare an Environmental Impact Statement for the Desert Quartzite Solar Project and a Possible Amendment to the California Desert Conservation Area Plan, Riverside County, California

AGENCY: Bureau of Land Management, Interior.

ACTION: Notice of intent.

SUMMARY: In compliance with the National Environmental Policy Act of 1969, as amended (NEPA), and the Federal Land Policy and Management Act of 1976, as amended (FLPMA), the Bureau of Land Management (BLM) Palm Springs/South Coast Field Office, Palm Springs, California, together with Riverside County, California, intend to prepare a joint Environmental Impact Statement (EIS) and Environmental Impact Report (EIR), which may include an amendment to the California Desert Conservation Area (CDCA) Plan, for the Desert Quartzite Solar Project (Project). By this notice, the BLM is announcing the beginning of the scoping process to solicit public comments and identify issues related to the EIS/EIR and Plan Amendment (PA).

DATES: This notice initiates the public scoping process for the EIS/EIR and PA. Comments on issues may be submitted in writing until April 6, 2015. The date(s) and location(s) of any scoping meetings will be announced at least 15 days in advance through local news media, newspapers and the BLM Web site at: http://www.blm.gov/ca/st/en/fo/cdd.html. In order to be included in the analysis, all comments must be received prior to the close of the 30-day scoping period or 15 days after the last public meeting, whichever is later. We will provide additional opportunities for public participation as appropriate.

ADDRESSES: You may submit comments on issues and planning criteria related to the Project by any of the following methods:

• email: blm_ca_desert_quartzite_solar_project@blm.gov.

• fax: (951) 697-5299.

• mail: ATTN: Cedric C. Perry, Project Manager, BLM California Desert District Office, 22835 Calle San Juan de Los Lagos, Moreno Valley, California 92553-9046

Documents pertinent to this project may be examined at the BLM California Desert District Office at the above address Monday through Friday 8:30 a.m. to 4:30 p.m.

FOR FURTHER INFORMATION CONTACT: Cedric C. Perry; telephone—(951) 697-5388; address—BLM California Desert District Office, 22835 Calle San Juan de Los Lagos, Moreno Valley, CA 92553-9046; Email—blm_ca_desert_quartzite_solar_project@blm.gov.

Persons who use a telecommunications device for the deaf (TDD) may call the Federal Information Relay Service (FIRS) at 1-(800)-877-8339 to contact the above individual during normal business hours. The FIRS is available 24 hours a day, 7 days a week, to leave a message or question with the above individual. You will receive a reply during normal business hours.

SUPPLEMENTARY INFORMATION: The applicant, Desert Quartzite Solar, LLC has requested a right-of-way (ROW) authorization to construct, operate, maintain and decommission a 300 MW alternating current (AC) solar photovoltaic energy-generating facility along with the necessary ancillary facilities including a project substation, access road, transmission lines, realignment of an existing route, operations and maintenance buildings, and lay down areas. The project is proposed on 4,845 acres of public land with the solar field occupying approximately 2,453 acres on lands within the Riverside East Solar Energy Zone (SEZ), southwest of Blythe, California.

This document provides notice that the BLM Palm Springs/South Coast Field Office and the County of Riverside California intend to jointly prepare an EIS/EIR, which may include a potential CDCA Plan Amendment, for the Project. It also announces the beginning of the scoping process for this effort and seeks public input on environmental issues and potential planning criteria relevant to the Project and any potential plan amendments. The purpose of the public scoping process is to guide the planning process and determine the relevant issues that will influence the scope of the environmental analysis, including alternatives and mitigation measures.

Preliminary issues for the environmental analysis and potential plan amendment have been identified by BLM; Federal, State, and local agencies; and, other stakeholders. These issues include: Air quality and greenhouse gas emissions; biological resources, including special status species; cultural resources; geology and soils; hazards and hazardous materials; hydrology and water quality; land use; lands with wilderness characteristics; noise; recreation; traffic; visual resources; cumulative effects; areas with high potential for renewable energy development; and, identification of opportunities to apply mitigation hierarchy strategies for on-site, regional, and compensatory mitigation, and, appropriate to the size of the project, landscape-level conservation and management actions to achieve resource objectives.

You may submit comments on issues and planning criteria in writing to the BLM at any public scoping meeting, or by using one of the methods listed in the ADDRESSES section above. To be most helpful, you should submit comments by the close of the 30-day scoping period or within 15 days after the last public meeting, whichever is later.

Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed.

The BLM withdrew public lands, including those where the proposed Project is located, in the State of California on July 5, 2013, under Public Land Order 7818 for a period of 20 years for future solar energy development, subject to valid existing rights, from location and entry under the United States mining laws. The lands are open to mineral and geothermal leasing, and mineral material sales.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources. The BLM will also consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

With respect to the potential land use plan amendment, the BLM will evaluate identified issues to be addressed in any potential plan amendment, and will place those issues into one of three categories:

1. Issues to be resolved in the plan amendment;

2. Issues to be resolved through policy or administrative action; or

3. Issues beyond the scope of this plan amendment.

The BLM will provide an explanation in the Draft EIS and PA as to why an issue was placed in category two or three. The public is also encouraged to help identify any management questions and concerns that should be addressed in the plan. The BLM will work collaboratively with interested parties to identify the management decisions that are best suited to local, regional, and national needs and concerns.

The BLM will use an interdisciplinary approach to develop the potential plan amendment in order to consider the variety of resource issues and concerns identified. Specialists with expertise in the following disciplines will be involved in the planning process: Rangeland management, minerals and geology, outdoor recreation, archaeology, paleontology, wildlife, lands and realty, hydrology, soils, sociology and economics.

Authority: 40 CFR 1501.7 and 43 CFR 1610.2.

Thomas Pogacnik,
Deputy State Director, Natural Resources.

[FR Doc. 2015-05290 Filed 3-5-15; 8:45 am]

BILLING CODE 4310-40-P